DEPARTMENT OF FEDERAL MEDIATION AND CONCILIATION SERVICE

Proposed Agency Information Collection Submitted for OMB Review and Comment

AGENCY: Federal Mediation and Conciliation Service.

ACTION: Notice and request for OMB review and comment.

SUMMARY: The Federal Mediation and Conciliation Service (FMCS) has submitted to the Office of Management and Budget (OMB) for clearance, a proposal for collection of information under the provisions of the Paperwork Reduction Act of 1995. The proposed online customer survey will evaluate the impact of FMCS's relationship-development and training programs (RDTs), the impact of the training program on the relationship between labor and management, and the impact of the training on the workplace.

DATES: Comments regarding this collection must be received by OMB on or before November 21, 2005. If you anticipate that you will be submitting comments, but find it difficult to do so within the period of time allowed by this notice, please advise the OMB Desk Officer of your intention to make a submission as soon as possible. The Desk Officer may be telephoned at 202-395-7151.

ADDRESSES: Written comments should be sent to: Carolyn Lovette, Desk Officer, Office of Information and Regulatory Affairs, Office of Management and Budget, New Executive Office Building, Room 10102, 735 17th Street, NW., Washington, DC 20503.

Comments should also be addressed to: Maria A. Fried, General Counsel, Federal Mediation and Conciliation Service, 2100 K Street, NW., Washington, DC 20427.

FOR FURTHER INFORMATION CONTACT: Requests for additional information or copies of the information collection instrument and instructions should be directed to Maria Fried, General Counsel, Federal Mediation and Conciliation Service, (202) 606-5488; mfried@fms.gov.

SUPPLEMENTARY INFORMATION: This package contains:

(1) OMB No.: Not yet assigned.

(2) Package Title: Survey of Relationship-Development and Training Program

(3) Type of Request: New collection of information.

(4) Purpose: This survey is to evaluate the impact of FMC's relationship—development and training programs, the impact of the training program on the relationship between labor and management, and the impact of the training on the workplace.

(5) Type of Respondents: Business and Not-for profit institutions.

(6) Estimated Number of Respondents: 500.

(7) Estimated Number of Burden Hours: 42.

Authority: Paperwork Reduction Act of 1995 (44 U.S.C. Ch 35).

Dated: October 21, 2005.
Jeanette Walters-Marquez,
Attorney-Advisor, Federal Mediation and Conciliation Service.

[FR Doc. 05-21450 Filed 10-26-05; 8:45 am]

BILLING CODE 6372-01-M